LIBRARY OF CONGRESS

Copyright Office

[Docket No. RM 2010-10]

Section 302 Report

AGENCY: Copyright Office, Library of Congress.

ACTION: Notice of inquiry; correction.

SUMMARY: The Copyright Office published in the Federal Register of March 3, 2011, a Notice of Inquiry seeking comments for a report to Congress addressing possible recommendations for phasing out the statutory licensing requirements in Section 111, 119, and 122 of the Copyright Act.

FOR FURTHER INFORMATION CONTACT: Ben Golant, Assistant General Counsel, or Tanya M. Sandros, Deputy General Counsel, Copyright GC/I&R, P.O. Box 70400, Washington, DC 20024. Telephone: (202) 707-8380. Telefax: (202) 707-8366 or by electronic mail at bgol@loc.gov.

Correction

In Notice of Inquiry RM 2010-10 make the following corrections in the DATES section. On page 11816 in the 2nd column correct the DATES caption to read:

DATES: Written comments must be received in the Office of the General Counsel of the Copyright Office no later than April 18, 2011. Reply comments must be received in the Office of the General Counsel of the Copyright Office no later than May 18, 2011.

Dated: March 3, 2011.
Tanya M. Sandros,
Deputy General Counsel.

[FR Doc. 2011-5237 Filed 3-7-11; 8:45 am]

BILLING CODE 1410-30-P